DEPARTMENT OF AGRICULTURE

Forest Service

Information Collection; Request for Comments; Timber Purchasers' Costs and Sales Data

AGENCY: Forest Service, USDA.

ACTION: Notice.

SUMMARY: In accordance with the Paperwork Reduction Act of 1995, the Forest Service announces its intention to reinstate a previously approved information collection. The collected information will help the Forest Service facilitate the appraisal and sale of timber on National Forest System lands. Information will be collected from purchasers of this timber.

DATES: Comments must be received in writing on or before June 13, 2000.

ADDRESSES: All comments should be addressed to Rex Baumback, Forest Management, Mail Stop 1105, Forest Service, USDA, P.O. Box 96090, Washington, D.C. 20090-6090.

Comments also may be submitted via facsimile to (202) 205-1045 or by email to: rbaumback@fs.fed.us.

The public may inspect comments received in the Office of the Director, Forest Management Staff, Forest Service, USDA, Room 3NW, Yates Building, 201 14th Street, SW, Washington, D.C. Callers are urged to call ahead to facilitate entrance into the building.

FOR FURTHER INFORMATION CONTACT: Rex Baumback, Timber Sale Contract Administration Specialist, Forest Management, at (202) 205-0855.

SUPPLEMENTARY INFORMATION:

Background

The Multiple-Use Sustained Yield Act of 1960, the Forest Rangeland Renewable Resources Planning Act of 1974, and the National Forest Management Act of 1976 authorize the Forest Service to sell forest products and National Forest System timber.

Forest Service timber appraisers develop advertised timber sale prices using a transaction evidence method of appraisal. Transaction evidence appraisals begin with an average of past successful bids by timber purchasers for timber for which the stumpage rate has been adjusted for the timber sale and the market conditions at the time. The Forest Service transaction evidence appraisal system includes costs incurred by the timber purchaser to log the timber and get the logged timber to the lumber mill.

The Western Wood Products Association (WWPA) cooperates with the agency to evaluate the lumber and other products values, provided by the timber purchasers to the WWPA, which the Forest Service uses to develop average value information for transaction evidence appraisals. This average value information enables Forest Service appraisers to better estimate the fair market value of a particular sale of National Forest System timber and helps the appraisers develop the prices that are advertised in local newspapers for the timber sale. The timber will be sold at not less than the appraised value and not below a minimum stumpage rate established by the Chief.

Timber purchasers also provide information on product values. Product values are the values of products that result from the harvested timber, such as lumber chips, plywood, and pressed board. The value of these products may vary from one geographical location to another. In many areas, product values may be purchased from the Western Wood Products Association.

Description of Information Collection

The following describes the information collection to be reinstated:

Title: Timber Purchasers' Costs and Sales Data.

OMB Number: 0596-0017.

Expiration Date of Approval: September 30, 1998.

Type of Request: Reinstatement of an information collection previously approved by the Office of Management and Budget.

Abstract: Forest Service personnel will evaluate the collected information to facilitate the appraisal and sale of timber on National Forest System lands.

Forest Service timber appraisers will use a transaction evidence method of appraisal to update the selling values and advertised rates of National Forest System timber.

The Forest Service transaction evidence appraisal system includes costs incurred by the timber purchaser to log the timber and get the logged timber to the lumber mill. Timber purchasers will provide incurred cost information, upon written request from the Forest Service. The costs incurred by timber purchasers should include items similar to the following: (1) falling and bucking, (2) skidding and loading, and (3) hauling. The Forest Service will share this cost data with States and other Federal agencies for their use in developing appraisals of timber sales.

Forest Service personnel also will request product value information from timber sale purchasers. Timber purchasers will provide both the cost data and the product value information via surface mail or electronic mail, using their own report formats. Some timber sale purchasers, instead of sending the requested information to the agency, will provide on-site access to Forest Service personnel, so the information may be retrieved from the timber purchasers' files or electronic databases.

Data gathered in this information collection are not available from other sources.

Estimate of Annual Burden: 1 hour.

Type of Respondents: Purchasers of National Forest System timber.

Estimated Annual Number of Respondents: 20.

Estimated Annual Number of Responses per Respondent: 1.

Estimated Total Annual Burden on Respondents: 20 hours.

Comment Is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: April 7, 2000.
James R. Furnish,
Deputy Chief, National Forest System.

[FR Doc. 00-9290 Filed 4-13-00; 8:45 am]

BILLING CODE 3410-11-P